DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before January 2, 2004 to receive our consideration.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-073416

Applicant: Siskiyou National Forest, Grants Pass, Oregon.

The applicant requests a permit to remove/reduce to possession (collect seed) Arabis mcdonaldiana (McDonald's rock-cress) in conjunction with research in Josephine and Curry Counties, Oregon, and Del Norte County, California, for the purpose of enhancing its survival.

Permit No. TE-077753

Applicant: Erica Fleishman, Stanford, California.

The applicant requests a permit to remove/reduce to possession (collect seed and tissue) Cordylanthus palmatus (palmate-bracted bird's-beak) in conjunction with research in Colusa, Fresno, Alameda, Yolo, and Sacramento Counties, California, for the purpose of enhancing its survival.

Permit No. TE-062125

Applicant: Bureau of Land Management, Folsom, California.

The permittee requests an amendment to remove/reduce to possession (collect) Calystegia stebbinsii (Stebbins' morning-glory), Ceanothus roderickii (Pine Hill ceanothus), Eriogonum apricum var. apricum (Apricum Hill buckwheat), Fremontodendron californicum ssp. decumbens (Pine Hill flannelbush), Galium californicum ssp. sierrae (El Dorado bedstraw) in conjunction with research in Tuolumne, Amador, El Dorado, Nevada, and Yuba Counties, California, for the purpose of enhancing their survival.

Permit No. TE-077943

Applicant: Matthew Williams, San Diego, California.

The applicant requests a permit to take (survey by pursuit) the Quino checkerspot butterfly (Euphydryas editha quino) in conjunction with surveys throughout the range of the species in California for the purpose of enhancing its survival.

Permit No. TE-066621

Applicant: Point Mugu Naval Base, Point Mugu, California.

The permittee requests an amendment to remove/reduce to possession (collect seed, propagate, and outplant) Cordylanthus maritimus ssp. maritimus (salt marsh bird's-beak) in conjunction with a planting program in Ventura County, California, for the purpose of enhancing its survival.

Permit No. TE-078657

Applicant: Amanda J. Colombo, Livermore, California.

The applicant requests a permit to take (capture and mark) the San Francisco garter snake (Thamnophis sirtalis tetrataenia) and the Alameda whipsnake (Masticophis lateralis euryxanthus) in conjunction with monitoring, surveys, and scientific research throughout the range of each species for the purpose of enhancing their survival.

Permit No. TE-078712

Applicant: Kimberly Kindt, Palm Springs, California.

The applicant requests a permit to take (monitor nests) the least Bell's vireo (Vireo bellii pusillus), and take (harass by survey and monitor nests) the southwestern willow flycatcher (Empidonax traillii extimus) in conjunction with demographic studies in Riverside County, California, for the purpose of enhancing their survival.

Permit No. TE-033365

Applicant: National Wildlife Health Center, Honolulu, Hawaii.

The permittee requests an amendment to take (capture, handle, mark, measure, collect biological samples, release, and recapture) the Nihoa millerbird (Acrocephalus familiaris kingi), nightingale reed warbler (Acrocephalus luscinia), Mariana gray swiftlet (Aerodramust vanikorensis bartschi), Laysan duck (Anas laysanensis), Hawaiian duck or koloa (Anas wyvilliana), Hawaiian hawk or 'io (Buteo solitarius), Hawaiian crow or 'alala (Corvus hawaiiensis), Mariana crow (Corvus kubaryi), Hawaiian coot or 'alae ke'o ke'o (Fulica americana alai), Mariana moorhen (Gallinula chloropus guami), Hawaiian moorhen or 'alae'ula (Gallinula chloropus sandvicensis), Micronesian kingfisher (Halcyon cinnamomina cinnamomina), Maui nukupu'u (Hemignathus lucidus affinus), Kauai nukupu'u (Hemignathus lucidus hanapepe), 'akiapola'au (Hemignathus munroi), Kauai 'akialoa (Hemignathus procerus), Hawaiian stilt or ae'o (Himantopus mexicanus knudseni), palila (Loxioides bailleui), Hawaii 'akepa (Loxops coccineus coccineus), Maui 'akepa (Loxops coccineus ochraceus), Micronesian megapode (Megapodius laperouse), po'ouli (Melamprosops phaeosoma), Kauai 'o'o (Moho braccatus), Tinian monarch (Monarcha takatsukasae), Molokai solitare or oloma'o (Myadestes lanaiensis rutha), large Kauai solitare or kama'o (Myadestes myadesinus), small Kauai solitare or puaiohi (Myadestes palmeri), Hawaiian goose or nene (Nesochen sandvicensis), Hawaii creeper (Oreomystis mana), crested honeycreeper or 'akohekohe (Palmeria dolei), Molokai creeper or kakawahie (Paroreomyza flammea), Oahu creeper or 'alauahia (Paroreomyza maculata), Maui parrotbill (Pseudonestor xanthophrys), 'o'u (Psittirostra psittacea), Hawaiian petrel or 'ua'u (Pterodroma phaeopygia sandwichensis), Newell's shearwater (Puffinus auricularis), Guam rail (Rallus owstoni), Laysan finch (Telespiza cantans), Nihoa finch (Telespiza ultima), bridled white-eye (Zosterops conspicillatus conspicillatus), Hawaiian hoary bat or ope'ape'a (Lasiurus cinereus semotus), Mariana fruit bat (Pteropus mariannus mariannus), and the Green sea turtle (Chelonia mydas) for evaluation of injury and/or disease, to determine epidemiologic trends, and to assist other permitted biologists in broader ecological studies in the Hawaiian Islands; Midway, Johnston, Wake, Palmyra, and Kingman Reef Atolls; Howland, Baker, and Jarvis Islands; Guam; American Samoa; the Commonwealth of the Northern Mariana Islands; and the Republic of Palau for the purpose of enhancing their survival. All of these activities for these species were previously authorized under subpermit BRDVET-3.

Permit No. TE-837010

Applicant: Bruce Koebele, Wai‘anae, Hawai‘i.

The permittee requests an amendment to remove/reduce to possession (collect and propagate) Achyranthes splendens var. rotundata (round-leaved chaff-flower) and Chamaesyce skottsbergii var. kalaeloana (‘Ewa Plains ‘akoko) in conjunction with site rehabilitation in O‘ahu, Hawai‘i, for the purpose of enhancing their survival.

Permit No. TE-062121

Applicant: Ryan Young, Carlsbad, California.

The permittee requests an amendment to take (harass by survey) the Conservancy fairy shrimp (Branchinecta conservatio), the longhorn fairy shrimp (Branchinecta longiantenna), the Riverside fairy shrimp (Streptocephalus wootoni), the San Diego fairy shrimp (Branchinecta sandiegonensis), the vernal pool tadpole shrimp (Lepidurus packardi), and to take (survey by pursuit) the Quino checkerspot butterfly (Euphydryas editha quino) in conjunction with surveys throughout the range of each species in California for the purpose of enhancing their survival.

Permit No. TE-068799

Applicant: Mikael Romich, San Bernardino, California.

The permittee requests an amendment to take (monitor nests, video monitor, and band) the least Bell's vireo (Vireo bellii pusillus) in conjunction with demographic studies in Riverside, San Bernardino, Los Angeles, Orange, San Diego, and Ventura Counties, California, for the purpose of enhancing its survival.

We solicit public review and comment on each of these recovery permit applications.

Dated: November 13, 2003.
Cynthia U. Barry,
Acting Deputy Regional Director, Region 1, U.S. Fish and Wildlife Service.

[FR Doc. 03-29870 Filed 12-1-03; 8:45 am]

BILLING CODE 4310-55-P